FARM CREDIT ADMINISTRATION

Privacy Act of 1974; Establishment of a New System of Records

AGENCY: Farm Credit Administration.

ACTION: Notice of establishment of a new system of records maintained on individuals; request for comments.

SUMMARY: Pursuant to the provisions of the Privacy Act of 1974, as amended (5 U.S.C. 552a), notice is hereby given that the Farm Credit Administration (FCA) is publishing an amended system notice, which indicates that the agency is now maintaining information on building security.

DATES: You may send written comments on or before September 3, 2009. The FCA filed an amended System Report with Congress and the Office of Management and Budget on July 14, 2009. This notice will become effective without further publication on September 14, 2009 unless modified by a subsequent notice to incorporate comments received from the public.

ADDRESSES: We offer a variety of methods for you to submit your comments. For accuracy and efficiency reasons, commenters are encouraged to submit comments by e-mail or through the FCA's Web site. As facsimiles (fax) are difficult for us to process and achieve compliance with section 508 of the Rehabilitation Act, we are no longer accepting comments submitted by fax. Regardless of the method you use, please do not submit your comment multiple times via different methods. You may submit comments by any of the following methods:

• E-mail: Send us an e-mail at reg-comm@fca.gov.

• FCA Web site: http://www.fca.gov. Select “Public Commenters,” then “Public Comments,” and follow the directions for “Submitting a Comment.”

• Federal eRulemaking Portal: http://www.regulations.gov. Follow the instructions for submitting comments.

• Mail: Robert Taylor, Privacy Act Officer, Farm Credit Administration, 1501 Farm Credit Drive, McLean, VA 22102-5090.

You may review copies of comments we receive at our office in McLean, Virginia, or from our Web site at http://www.fca.gov. Once you are in the Web site, select “Public Commenters,” then “Public Comments,” and follow the directions for “Reading Submitted Public Comments.” We will show your comments as submitted but, for technical reasons, we may omit items such as logos and special characters. Identifying information that you provide, such as phone numbers and addresses, will be publicly available. However, we will attempt to remove e-mail addresses to help reduce Internet spam.

FOR FURTHER INFORMATION CONTACT:

Bob Taylor, Privacy Act Officer, Farm Credit Administration, McLean, Virginia 22102-5090, (703) 883-4019, TTY (703) 883-4020, or

Jane Virga, Office of General Counsel, Farm Credit Administration, McLean, Virginia 22102-5090, (703) 883-4071, TTY (703) 883-4020.

SUPPLEMENTARY INFORMATION: This publication satisfies the requirement of the Privacy Act of 1974 that agencies publish a system of records notice in the Federal Register when there is a revision, change, or addition to the system of records. The notice reflects designated points of contact for inquiring about the system, accessing the records, and requesting amendments to the records.

The amended system of records is: FCA-17, Organization Locator and Personnel Roster. As required by 5 U.S.C. 552a(r) of the Privacy Act, as amended, the FCA has sent notice of this proposed system of records to the Office of Management and Budget, the Committee on Oversight and Government Reform of the House of Representatives, and the Committee on Homeland Security and Governmental Affairs of the Senate. The notice is published in its entirety below.

FCA-17

SYSTEM NAME:

Organization Locator and Personnel Roster System—FCA.

SECURITY CLASSIFICATION:

None.

SYSTEM LOCATION:

Records are located at the Farm Credit Administration.

CATEGORIES OF INDIVIDUALS COVERED BY THE SYSTEM:

Current FCA employees.

CATEGORIES OF RECORDS IN THE SYSTEM:

Paper and electronic records. Includes information such as names; home addresses; telephone numbers; cell phone numbers; official titles or positions and organizations; photographs; building security zones; and other information associated with identifying and contacting personnel. Locator records of Agency personnel.

AUTHORITY FOR MAINTENANCE OF THE SYSTEM:

12 U.S.C. 2243, 2252.

PURPOSES:

To contact and recall personnel when required; locate personnel for routine and emergency matters; provide mail distribution and forwarding addresses; compile a social roster for official and non-official functions; send personal greetings and invitations; establish building security; and locate individuals during medical emergencies, facility evacuations, and similar threat situations. To identify Agency personnel.

ROUTINE USES OF RECORDS MAINTAINED IN THE SYSTEM, INCLUDING CATEGORIES OF USERS AND THE PURPOSES OF SUCH USES:

See the “General Statement of Routine Uses.”

DISCLOSURE TO CONSUMER REPORTING AGENCIES:

None.

POLICIES AND PRACTICES FOR STORING, RETRIEVING, ACCESSING, RETAINING, AND DISPOSING OF RECORDS IN THE SYSTEM:

STORAGE:

Information stored in hard copy and electronically.

RETRIEVABILITY:

Retrievable by name.

SAFEGUARDS:

Access is limited to those whose official duties require access. File cabinets and rooms are locked during non-duty hours. Computers are protected by firewalls and passwords.

RETENTION AND DISPOSAL:

In accordance with National Archives and Records Administration General Records schedule requirements.

SYSTEM MANAGER(S) AND ADDRESS:

Director, Office of Management Services, Farm Credit Administration, McLean, VA 22102-5090.

NOTIFICATION PROCEDURE:

Direct all inquiries about this system of records to: Privacy Act Officer, Farm Credit Administration, McLean, VA 22102-5090.

RECORD ACCESS PROCEDURES:

Same as above.

CONTESTING RECORD PROCEDURES:

Same as above.

RECORD SOURCE CATEGORIES:

Information in this system of records either comes from the individual to whom it applies or comes from information supplied by Agency officials.

EXEMPTIONS CLAIMED FOR THE SYSTEM:

None.

Dated: July 30, 2009.
Roland Smith,
Secretary, Farm Credit Administration Board.

[FR Doc. E9-18603 Filed 8-3-09; 8:45 am]

BILLING CODE 6705-01-P